FEDERAL COMMUNICATIONS COMMISSION

Notice of Public Information Collection(s) Being Submitted for Review to the Office of Management and Budget

September 21, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 27, 2005. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., DC 20554 or via the Internet to Leslie.Smith@fcc.gov. If you would like to obtain or view a copy of this new or revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION:

OMB Control Number: 3060-0874.

Title: Consumer Complaint Form/Obscene, Profane, and Indecent Complaint Form, FCC Forms 475 and 475B.

Form Number: FCC Form 475 and Form 475B.

Type of Review: Revision of a currently approved collection.

Respondents: Individuals or households; Business or other for-profit entities; and Not-for-profit institutions.

Number of Respondents: 1,354,619: FCC Form 475—83,287; FCC Form 475B—1,271,332.

Estimated Time per Response: FCC Form 475—30 minutes; FCC Form 475B—15 minutes.

Frequency of Response: On occasion reporting requirement.

Total Annual Burden: 359,477: FCC Form 475—41,644 hours; FCC Form 475B—317,833 hours.

Total Annual Cost: None.

Needs and Uses: Revised FCC Form 475, Consumer Complaint Form, allows the Commission to collect detailed data from consumers of the practices of common carriers. This information contained in the collection will allow consumers to provide the Commission with the relevant information required to help consumers develop a concise statement outlining the issues in dispute and revisions were made to also minimize the need to call back consumers in order to acquire further data. The Commission uses the information to assist in resolving informal complaints and the collected data required to assess the practices of common carriers and as a part of investigative work performed by federal and state law enforcement agencies to monitor carrier practices and promote compliance with federal and state requirements. The data may ultimately become the foundation for enforcement actions and/or rulemaking proceedings, as appropriate.

We have revised FCC Form 475 to clarify information requirements and comply with OMB requests to make the form less confusing and more user friendly, by making it clear for which complaints revised Form 475 may be used. Form 475 has also been made more consumer-friendly by putting directions for use in colored text at the top of the form to emphasize which types of complaints may be filed using the revised Form 475. Revised Form 475 will be used for all telephone-related complaints, except slamming. Certain fields have an asterisk next to them if the information is required in order to submit a complaint. It is also clearly stated now for which complaints Form 475 may be used and clearly states that “slamming” complaints may not be filed using the revised Form 475. Letters and numbers have been added to the individual data requests to make it easier for consumers to fill out the revised FCC Form 475.

In Form 475, the Commission asks for the complainant's contact information in the first ten fields, including, name/company name, address, telephone number and e-mail address. Form 475 also asks the consumer briefly to describe their complaints including the company(ies) involved, the account numbers, telephone numbers associated with the complaint, types of service involved, important dates, and the resolution the consumer is seeking. Revised Form 475 will also provide clearer guidance for persons wishing to file Telephone Consumer Protection Act (TCPA) related complaints (e.g., unwanted telemarketing calls, unsolicited faxes, etc.). Revised Form 475 now has a section for consumers to submit TCPA complaints with the Commission. This section includes five fields or questions where consumers will provide the requested information or respond to the question to file a TCPA violation with the Commission.

Proposed FCC Form 475B, Obscene, Profane, and Indecent Complaint Form, will enable the Commission to collect detailed data from consumers on the practices of those entities that may air/broadcast obscene, profane and indecent programming by giving consumers an opportunity, for the first time, to use a specific form to delineate the consumer's complaint. Form 475B will be used only for complaints associated with obscene, profane, and/or indecent programming. Information contained in the collection will allow consumers to provide the Commission with the relevant information to help consumers develop a concise statement outlining the issues in dispute thereby minimizing the amount of time it takes to file a complaint, minimizing confusion on what information the Commission requires, and improving the complaint process and the overall quality of the complaints received.

Prior to the creation of Form 475B, consumers have attempted to use Form 475 to submit complaints about programming and in most such instances the Commission has been unable to process the complaints because not enough information was included, e.g., information pertaining to the date, time, and content of the program, the name of the station or program that is the subject of the complaint. FCC Form 475B will include fields that will ask for the complainant's contact information, including name, address, e-mail address, and telephone number. Form 475B will also include a section that asks for information to help identify the station that aired the alleged indecent, profane, and/or indecent material, including the network's name, name of the station, name of the particular program including host or personality/DJ, time of the program, the time zone, the date of the program and the community where the material was aired. The last section on Form 475B asks the complainant to describe the incident and to include as much detail as possible about specific words, languages, and images, to help the Commission determine whether the program was, in fact, obscene, profane, or indecent. The data may ultimately become the foundation for enforcement actions and/or rulemaking proceedings, as appropriate. The information will strengthen the effectiveness of the Commission's rules in deterring obscene, profane, and indecent content and programming.

Federal Communications Commission.
Marlene H. Dortch,
Secretary.

[FR Doc. 05-19251 Filed 9-26-05; 8:45 am]

BILLING CODE 6712-01-P